DEPARTMENT OF COMMERCE

Patent and Trademark Office

National Telecommunications and Information Administration

Notice of Public Meetings on Copyright Policy Topics (as Called for in the Department of Commerce Green Paper, Copyright Policy, Creativity, and Innovation in the Digital Economy)

AGENCY: United States Patent and Trademark Office, U.S. Department of Commerce; National Telecommunications and Information Administration, U.S. Department of Commerce.

ACTION: Notice of public roundtables.

SUMMARY: In the Department of Commerce's Internet Policy Task Force (Task Force) Green Paper on Copyright Policy, Creativity, and Innovation in the Digital Economy (Green Paper), released on July 31, 2013, and in its later Request for Comments issued on Oct. 3, 2013, the Task Force stated its intention to convene roundtables on certain copyright topics, namely: the legal framework for the creation of remixes, the relevance and scope of the first sale doctrine in the digital environment, and the appropriate calibration of statutory damages in the contexts of individual file sharers and of secondary liability for large-scale infringement. In accordance with these previous announcements, the Task Force plans to hold four roundtables in cities across the United States in May, June, and July 2014. See the Instructions and Information on the Public Roundtables below regarding how to participate in or observe the roundtable discussions.

DATES: The four roundtables are scheduled to be held in: (1) Nashville, TN on May 21, 2014, (2) Cambridge, MA on June 25, 2014, (3) Los Angeles, CA on July 29, 2014, and (4) Berkeley, CA on July 30, 2014. All roundtables will begin at 8:30 a.m. and end at 5:00 p.m. Requests to participate and observe are due three weeks in advance of each of the respective roundtables on the following dates, by 5:00 p.m. E.S.T.: (1) April 30, 2014 for the Nashville roundtable, (2) June 4, 2014 for the Cambridge roundtable, (3) July 8, 2014 for the Los Angeles roundtable, and (4) July 9, 2014 for the Berkeley roundtable. The agendas and webcast information will be available a week before each of the roundtables on the Task Force Web site, http://www.ntia.doc.gov/Internetpolicytaskforce and the USPTO's Web site, http://www.uspto.gov/ip/global/copyrights/index.jsp.

ADDRESSES: The Task Force will hold the initial roundtable on May 21st at Flynn Auditorium, Vanderbilt University Law School, 131 21st. Ave. S. in Nashville, TN 37203, the second roundtable on June 25th at Wasserstein Hall, Harvard University Law School, 1585 Massachusetts Ave in Cambridge, MA 02138, the third roundtable on July 29th in Los Angeles, CA at a location to be announced shortly on the Web sites listed above, and the fourth roundtable on July 30th at the Bancroft Hotel, 2680 Bancroft Way in Berkeley, CA 94704.

FOR FURTHER INFORMATION CONTACT: For further information regarding the roundtables, please contact Ann Chaitovitz, Ben Golant, or Hollis Robinson, Office of Policy and International Affairs, United States Patent and Trademark Office, Madison Building, 600 Dulany Street, Alexandria, VA 22314; telephone (571) 272-9300. Email questions should be sent to copyrightpolicyroundtable@uspto.gov. Sign up for the USPTO's Copyright Alert subscription at enews.uspto.gov to receive updates about the roundtables.

Please direct all media inquiries to the Office of the Chief Communications Officer, USPTO, at (571) 272-8400.

SUPPLEMENTARY INFORMATION:

Roundtable Discussions

In the Green Paper on Copyright Policy, Creativity, and Innovation in the Digital Economy (Green Paper), released on July 31, 2013, and in its subsequent request for public comments, 78 FR 61337 (October 3, 2013), the Task Force stated its intention to hold roundtable discussions on (1) the legal framework for the creation of remixes; (2) the relevance and scope of the first sale doctrine in the digital environment, and (3) the appropriate calibration of statutory damages in the contexts of (i) individual file sharers and (ii) secondary liability for large-scale infringement. See Request for Public Comments and Notice of Public Meeting, 78 FR 61337-38 (Oct. 3, 2013), available at http://www.ntia.doc.gov/files/ntia/publications/ntia_pto_rfc_10032013.pdf.

On December 12, 2013, the Task Force held a day-long public meeting to discuss the issues identified for further work in the Green Paper, which included panel discussions on remixes, the first sale doctrine, and statutory damages, as well as other topics. The Task Force also sought written comments both prior to and after the December 12, 2013 meeting on these subjects. An archive of the webcast of the public meeting is available at http://new.livestream.com/uspto/copyright, and a transcript is available at http://www.uspto.gov/ip/global/copyrights/121213-USPTO-Green_Paper_Hearing-Transcript.pdf. Copies of the comments received are available at http://www.uspto.gov/ip/global/copyrights/green_paper_public_comments.jsp.

The purpose of the planned roundtables is to seek additional input from the public in order for the Task Force to have a complete and thorough record upon which to make recommendations.

Each of the scheduled roundtables will be divided into separate, consecutive, sessions addressing the following topics raised in the Green Paper: (1) The legal framework for the creation of remixes; (2) the relevance and scope of the first sale doctrine in the digital environment; and (3) the appropriate calibration of statutory damages in the contexts of (i) individual file sharers and (ii) secondary liability for large-scale infringement. Time will be reserved at the end of each session within each roundtable for observers and viewers to comment upon the topic discussed during the session. While the subject matter will be consistent across each of the four roundtables, the allotted time for each session may vary to accommodate the specific interests of the participants at each location. In order to maximize participation, no formal opening statements or presentations are expected.

The roundtables will focus on (1) the questions set out in the October 3rd Federal Register Notice, 78 FR at 61338-39, (2) the issues raised in the stakeholder comments filed both before and after the Dec. 12 meeting, and (3) points made at the December 12th public meeting. Individuals participating in the roundtables may be posed questions on any of these issues.

Instructions and Information on the Public Roundtables

The roundtables will take place on May 21st (Flynn Auditorium, Vanderbilt University Law School, 131 21st. Ave. S. in Nashville, TN), June 25th (Wasserstein Hall, Harvard University Law School, 1585 Massachusetts Ave. in Cambridge, MA), July 29th (location in Los Angeles, CA to be announced) and July 30th (the Bancroft Hotel, 2680 Bancroft Way in Berkeley, CA).

Interested parties may request to participate in, or to observe, the roundtable discussions by submitting a request form, available at https://www.signup4.net/public/ap.aspx?EID=THEG32E&OID=130.¹ Participation will entail responding to questions from Task Force members and engaging with other participants, whereas observation will entail listening to, but not participating in, the discussions, although there will be time for observers to comment at the end of the discussion. Parties who wish to attend roundtables in multiple locations should submit a separate request form for each location. When completing request forms, interested parties should identify the particular discussion or discussions they wish to participate in or observe. We will respond to the requests to participate or observe two weeks before the day the roundtable will be held. Please note that the Task Force may not be able to grant all requests but will seek to maximize participation to the extent possible.

¹ Individuals who are unable to send requests via the Web site should contact Hollis Robinson at (571) 272-9300 to make alternative arrangements for submission of their requests to participate.

Participants and observers should arrive at least one-half hour prior to the start of the roundtable and must present valid government-issued photo identification upon arrival. The Task Force will provide additional information on directions and parking in the agendas for each of the roundtables.

The roundtables will be webcast. A transcription service will also be present. The transcriptions will be made available on both the Task Force and USPTO Web sites after each roundtable.

The roundtables will be physically accessible to people with disabilities. Individuals requiring accommodation, such as sign language interpretation, real-time captioning of the webcast or other ancillary aids, should communicate their needs to Hollis Robinson, Office of Policy and International Affairs, United States Patent and Trademark Office, Madison Building, 600 Dulany Street, Alexandria, VA 22314; telephone (571) 272-9300; email hollis.robinson@uspto.gov, at least seven (7) business days prior to the roundtable.

Dated: April 11, 2014.
Michelle K. Lee,
Deputy Under Secretary of Commerce for Intellectual Property and Deputy Director of the United States Patent and Trademark Office.
Lawrence E. Strickling,
Assistant Secretary of Commerce for Communications and Information.

[FR Doc. 2014-08627 Filed 4-15-14; 8:45 am]

BILLING CODE 3510-16-P